DEPARTMENT OF TRANSPORTATION

Federal Motor Carrier Safety Administration

[Docket No. FMCSA-2008-0362]

Medical Review Board (MRB); Notice of Partially Closed Meeting

AGENCY: Federal Motor Carrier Safety Administration (FMCSA), DOT.

ACTION: Notice of partially closed meeting.

SUMMARY: This notice announces a meeting of the Medical Review Board Advisory Committee (MRB).

DATES: The meeting will be held on Monday and Tuesday, April 27-28, 2020, from 9:15 a.m. to 4:30 p.m. The meeting will be closed to the public on Monday, April 27 and will be open to the public on Tuesday, April 28. For the public meeting, no advance registration is required. Requests for accommodations for a disability must be received by Friday, April 17. Requests to submit written materials for consideration during the meeting must be received no later than Monday, April 20.

ADDRESSES: The meeting will be held at the U.S. Department of Transportation, 1200 New Jersey Avenue SE. Copies of the task statement and an agenda for the entire meeting will be made available at www.fmcsa.dot.gov/mrb at least one week in advance of the meeting. Copies of the meeting minutes will be available at the website following the meeting. You may visit the MRB website at www.fmcsa.dot.gov/mrb for further information on the committee and its activities.

FOR FURTHER INFORMATION CONTACT: Ms. Shannon L. Watson, Senior Advisor to the Associate Administrator for Policy, Federal Motor Carrier Safety Administration, U.S. Department of Transportation, 1200 New Jersey Avenue SE, Washington, DC 20590, (202) 366-5221, mrb@dot.gov. Any committee-related request should be sent to the person listed in this section.

SUPPLEMENTARY INFORMATION:

I. Background

The MRB was created under the Federal Advisory Committee Act (FACA) in accordance with section 4116 of the Safe, Accountable, Flexible, Efficient Transportation Equity Act: A Legacy for Users, SAFETEA-LU, Public Law 109-59 (2005) (codified as amended at 49 U.S.C. 31149) to establish, review, and revise “medical standards for operators of commercial motor vehicles that will ensure that the physical condition of operators of commercial motor vehicles is adequate to enable them to operate the vehicles safely.” The MRB operates in accordance with FACA under the terms of the MRB charter, filed November 25, 2019.

II. Agenda

At the meeting, the agenda will cover the following topics:

• Monday, April 27 (Closed Session): Review test questions used to determine eligibility of healthcare professionals for inclusion in the National Registry of Certified Medical Examiners (CMEs).

• Tuesday, April 28 (Public Session):

1. Finalize recommendations from the MRB's June 2019 meeting on updates to the Medical Examiner's Handbook;

2. Consider changes to the seizure standard for CMV drivers.

III. Public Participation

The first day of the meeting will be closed to the public due to the discussion of specific test questions, which are not available for release to the public. Premature disclosure of secure test information would compromise the integrity of the examination and therefore exemption 9(B) of section 552b(c) of Title 5 of the United States Code justifies closing this portion of the meeting pursuant to 41 CFR 102-3.155(a). The second day of the meeting will be open to the public on a first-come, first served basis as space is limited. There is no need for advance registration.

The U.S. Department of Transportation is committed to providing equal access to this meeting for all participants. If you need alternative formats or services due to a disability, such as sign language interpretation or other ancillary aids, please contact the person listed in the FOR FURTHER INFORMATION CONTACT section by Friday, April 17, 2020.

Oral comments from the public will be heard throughout the meeting at the discretion of the MRB Chairman. To accommodate as many speakers as possible, the time for each commenter may be limited. Speakers are requested to submit a written copy of their remarks for inclusion in the meeting records and for circulation to the MRB members. All prepared remarks submitted on time will be accepted and considered as part of the record. Any member of the public may present a written statement to the committee at any time.

Issued on: March 11, 2020.
Larry W. Minor,
Associate Administrator for Policy.

[FR Doc. 2020-05457 Filed 3-16-20; 8:45 am]

BILLING CODE 4910-EX-P